FEDERAL COMMUNICATIONS COMMISSION

47 CFR Part 90

[WT Docket No. 99-87; RM-9332; FCC 08-127]

Implementation of Sections 309(j) and 337 of the Communications Act of 1934 as Amended; Promotion of Spectrum Efficient Technologies on Certain Part 90 Frequencies

AGENCY: Federal Communications Commission.

ACTION: Final rule.

SUMMARY: In the Fourth Memorandum Opinion and Order in WT Docket No. 99-87 (Fourth Memorandum Opinion and Order), the Federal Communications Commission (Commission or FCC) clarifies the Commission's Third Report and Order in this docket, and takes the opportunity to correct the inadvertent deletion of language in the rules regarding the schedule for Private Land Mobile Radio systems in the 150-174 MHz and 421-512 MHz bands to transition to narrowband kHz technology.

DATES: Effective July 17, 2008.

FOR FURTHER INFORMATION CONTACT: Melvin Spann, Mobility Division, Wireless Telecommunications Bureau, at Melvin.Spann@FCC.gov, or (202) 418-1333.

SUPPLEMENTARY INFORMATION: This is a summary of the Federal Communications Commission's Fourth Memorandum Opinion and Order in WT Docket No. 99-87 (Fourth Memorandum Opinion and Order), FCC 08-127, adopted on March 12, 2008, and released on March 13, 2008. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. The Fourth Memorandum Opinion and Order addresses issues raised in the Third Report and Order (Third Report and Order) at 72 FR 19387, April 18, 2007, in this WT Docket No. 99-87 proceeding. The Commission takes the following significant actions in the Fourth Memorandum Opinion and Order: (i) clarifies that it intends to provide notice and seek comment prior to adopting final rules establishing a 6.25 kHz migration schedule and that licensees that have already commenced the transition to 12.5 kHz technology in order to comply with the 2013 deadline should not suspend or abandon those efforts; and (ii) revises 47 CFR 90.209(b)(5) of the Commission's rules to restore language relating to the 2013 deadline that was inadvertently removed in an unrelated rulemaking proceeding, and to revise that language to make it more precise.

I. Procedural Matters

A. Paperwork Reduction Act Analysis

2. The Fourth Memorandum Opinion and Order does not contain any new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

II. Ordering Clauses

3. Pursuant to sections 4(i) and 303(r) of the Communications Act of 1934, as amended, 47 U.S.C. 154(i), 303(r), and § 1.2 of the Commission's rules, 47 CFR 1.2, the Request for Clarification filed by Kenwood USA Corporation, Communications Sector on May 9, 2007 is granted to the extent set forth herein.

4. Pursuant to sections 4(i) and 303(r) of the Communications Act of 1934, as amended, 47 U.S.C. 154(i), 303(r), and § 1.429 of the Commission's rules, 47 CFR 1.429, the Petition for Reconsideration filed by City of New York on May 18, 2007 is granted to the extent set forth herein.

5. The rule changes as set forth will become effective July 17, 2008.

6. The Commission's Consumer and Governmental Affairs Bureau shall send a copy of this Fourth Memorandum Opinion and Order, including the Final Regulatory Flexibility Certification, to the Chief Counsel for Advocacy of the Small Business Administration.

List of Subjects in 47 CFR part 90

Communications equipment, Radio.

Federal Communications Commission.
Marlene H. Dortch,
Secretary.

Rule Changes

For the reasons discussed in the preamble, the Federal Communications Commission amends 47 CFR part 90 as follows:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), 332(c)(7).

2. Section 90.209 is amended by revising footnote 3 to the table in paragraph (b)(5) to read as follows:

§ 90.209 Bandwidth limitations.

* * * * *

(b) * * *

(5) * * *

³ Operations using equipment designed to operate with a 25 kHz channel bandwidth will be authorized a 20 kHz bandwidth. Operations using equipment designed to operate with a 12.5 kHz channel bandwidth will be authorized a 11.25 kHz bandwidth. Operations using equipment designed to operate with a 6.25 kHz channel bandwidth will be authorized a 6 kHz bandwidth. All stations must operate on channels with a bandwidth of 12.5 kHz or less beginning January 1, 2013, unless the operations meet the efficiency standard of § 90.203(j)(3).

* * * * *

[FR Doc. E8-13628 Filed 6-16-08; 8:45 am]

BILLING CODE 6712-01-P